DEPARTMENT OF TRANSPORTATION

National Highway Traffic Safety Administration

[Docket Number NHTSA-2011-0084]

Agency Information Collection Activities; Submission to the Office of Management and Budget for Review and Approval; Compliance Labeling of Retroreflective Materials for Heavy Trailer Conspicuity

AGENCY: National Highway Traffic Safety Administration (NHTSA), Department of Transportation (DOT).

ACTION: Notice and request for comment on the reinstatement of a previously approved collection of information.

SUMMARY: In compliance with the Paperwork Reduction Act of 1995, this notice announces that the Information Collection Request (ICR) abstracted below, regarding the reinstatement of a previously approved collection of information on Federal Motor Vehicle Safety Standard (FMVSS) No. 108, will be submitted to the Office of Management and Budget (OMB) for review and approval. The ICR describes the labeling requirement for retroreflective sheeting material and its expected burden. A Federal Register Notice with a 60-day comment period soliciting comments on the following information collection was published on July 7, 2020. No comments were received regarding this information collection.

DATES: Comments must be submitted on or before August 20, 2021.

ADDRESSES: Written comments and recommendations for the proposed information collection, including suggestions for reducing the burden, should be submitted to the Office of Management and Budget at www.reginfo.gov/public/do/PRAMain. To find this particular information collection, select “Currently under Review—Open for Public Comment” or use the search function.

FOR FURTHER INFORMATION CONTACT: For additional information or access to background documents, contact Andrei Denes, U.S. Department of Transportation, NHTSA, 1200 New Jersey Avenue SE, Washington, DC 20590. Mr. Denes's telephone number is (202) 366-1810, and fax number is (202) 366-7002. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on July 7, 2020 (85 FR 40735).

Title: 49 CFR 571.108, Standard No. 108; Lamps, reflective devices, and associated equipment; Compliance Labeling of Retroreflective Materials for Heavy Trailer Conspicuity

OMB Control Number: 2127-0569.

Type of Request: Reinstatement of a previously approved collection.

Type of Review Requested: Regular.

Length of Approval Requested: Three years.

Summary of the Collection of Information: The National Traffic and Motor Vehicle Act, authorizes the Secretary of Transportation (NHTSA by delegation), at 49 U.S.C. 30111, to issue Federal Motor Vehicle Safety Standards (FMVSS) that set performance standards for motor vehicles and items of motor vehicle equipment. Further, the Secretary (NHTSA by delegation) is authorized, at 49 U.S.C. 30117, to require manufacturers to provide information to first purchasers of motor vehicles or items of motor vehicle equipment related to performance and safety in printed materials that are attached to or accompany the motor vehicle or item of motor vehicle equipment. Under this authority, the agency issued FMVSS No. 108, specifying labeling requirements to aid the agency in achieving many of its safety goals.

FMVSS No. 108, “Lamp, reflective devices and associated equipment,” requires that the inscription “DOT-C2”, “DOT-C3”, or “DOT-C4”, as appropriate, constituting a certification that the retroreflective sheeting conforms to the requirements of the standard, appear at least once on the exposed surface of each white or red segment of retroreflective sheeting, and at least once every 300 mm on retroreflective sheeting that is white only. The characters must be not less than 3 mm high, and must be permanently stamped, etched, molded, or printed in indelible ink.

Description of the Need for the Information and Proposed Use of the Information: Crashes can be reduced if retroreflective material having certain essential properties is used to mark trailers. The permanent labeling is used to identify retroreflective material having the minimum properties required for effective conspicuity of trailers at night.

Affected Public: Manufacturers of conspicuity grade retroreflective materials.

Estimated Number of Respondents: 3.

The respondents are likely to be manufacturers of the conspicuity material. The agency estimates that currently there are three manufacturers producing conspicuity material.

Frequency: On Occasion.

Number of Responses: 190,000,000.

It is estimated that there are 2.34 million trailers and 0.54 million truck tractors that require new conspicuity tape annually. On average, a trailer requires approximately 60 ft. of reflective tape and a truck tractor requires about 4 ft. The labels are to be placed at intervals varying between 150 mm and 300 mm on rolls of retroreflective conspicuity tape. Considering the length of tape required per trailer and truck tractor, and that the labeling is applied on average every 9 in. (225 mm), a total number of 80 labels per trailer and 6 labels per truck tractor are required. Therefore, it is estimated that 190 million labels will be required annually (2.34 million trailers × 80 labels + 0.54 million truck tractors × 6 labels).

Estimated Total Annual Burden Hours: 3 hours.

The compliance symbol labeling program imposes only a minor hour burden per respondent, or three total hours, for the collection or reporting based on a maximum time required to ensure that the correct inscription is being applied to the sheeting by the printing presses. The application of symbols is performed by automated equipment incorporated in the production process of the retroreflective sheeting.

Estimated Total Annual Burden Cost: $4,000.

The cost to respondents is estimated based on information that was supplied by the respondents regarding the cost of supplying or modifying printing rollers to apply the label. The cost to manufacturers of applying the label requirement is the maintenance and amortization of printing rollers and the additional dye or ink consumed. The labels are printed during the normal course of steady flow manufacturing operations and do not add additional time to the production process.

Two methods of printing the label are in use. One method uses the same roller that applies the dye to the red segments of the material pattern. The roller is resurfaced annually using a computerized etching technique. The label was incorporated in the software to drive the roller resurfacing in 1993, and there is no additional cost to continue the printing of the label. In fact, costs would be incurred to discontinue the label.

The second method uses a separate roller and dye to apply the label. The manufacturer using this technique reported that the rollers have been in service for five years without detectable wear and predicted a service life of at least fifteen years. Four rollers costing about $2,500 each are used for a total of $10,000. If all three manufacturers chose to use this method, a total of 12 rollers would be used for a total cost of $30,000. A straight-line depreciation of the rollers over 15 years ($30,000 divided by 15 years) equals $2,000 per year. The total cost of the dye required is derived from the number of labels required to be printed yearly and the dye required for each label. The total number of labels printed annually is about 190 million. Therefore, at a cost of approximately $40 per gallon of dye and using about 0.001 milliliters of dye per label, the total cost of dye to print all the labels is estimated to be $2,000 (190 million labels × $40/gal × 0.001 ml × 0.000264172 ml/gal). With the yearly cost to replace the rollers of $2,000 and an annual allowance of $2,000 for dye, the annual total industry cost of maintaining the label is about $4,000.

Estimated annual cost burden:

Additional cost of maintaining printing rollers with added label—$0

Annual cost of separate printing rollers for label (where used)—$2,000

Annual cost of additional dye or ink—$2,000

Total annual respondent cost—$4,000

Number of rollers | Cost of each roller | Total cost rollers | Depreciation over 15 years | Total annual labels (million) | Annual additional dye allowance | Est. total annual cost to maintain label
12 | $2,500 | $30,000 | $2,000 | 190 | $2,000 | $4,000

Public Comments Invited: You are asked to comment on any aspects of this information collection, including (a) whether the proposed collection of information is necessary for the proper performance of the functions of the Department, including whether the information will have practical utility; (b) the accuracy of the agency's estimate of the burden of the proposed information collection, including the validity of the methodology and assumptions used; (c) ways to enhance the quality, utility and clarity of the information to be collected; and (d) ways to minimize the burden of the collection of information on respondents, including the use of appropriate automated, electronic, mechanical, or other technological collection techniques or other forms of information technology.

Authority: The Paperwork Reduction Act of 1995, 44 U.S.C. chapter 35, as amended; 49 CFR 1.49; and DOT Order 1351.29.

Raymond R. Posten,
Associate Administrator for Rulemaking.

[FR Doc. 2021-15521 Filed 7-20-21; 8:45 am]

BILLING CODE 4910-59-P